NUCLEAR REGULATORY COMMISSION

Request To Amend License To Export Radioactive Waste

Pursuant to Title 10 of the Code of Federal Regulations (10 CFR) 110.70 (b) “Public Notice of Receipt of an Application,” please take notice that the U.S. Nuclear Regulatory Commission (NRC) has received the following request for an export license amendment. A copy of the request is available electronically through the Agencywide Documents Access and Management System and can be accessed through the Public Electronic Reading Room link http://www.nrc.gov/reading-rm.html at the NRC Homepage.

A request for a hearing or petition for leave to intervene may be filed within 30 days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this import license amendment application follows.

NRC Export License Amendment Application
Name of applicant Date of application Date received Application No. Docket No. | Description of material: Material type | Description of material: Total quantity | End use | Country to
Eastern Technologies, Inc., November 9, 2015, December 10, 2015, XW016/02, 11005825 | No change in material (secondary Class A radioactive waste) | No change (not to exceed quantity authorized under NRC license IW016/03) | Amend to extend the date of expiration from December 31, 2015 to December 31, 2020 | Mexico.

For the Nuclear Regulatory Commission.
Dated this 29th day of December 2015 at Rockville, Maryland.
Elizabeth Smiroldo,
Acting Director, Office of International Programs.

[FR Doc. 2015-33284 Filed 1-5-16; 8:45 am]

BILLING CODE 7590-01-P